DEPARTMENT OF AGRICULTURE

[Docket No. USDA-2020-0003]

Solicitation of Input From Stakeholders on Agricultural Innovations

AGENCY: Research, Education, and Economics, USDA.

ACTION: Request for written stakeholder input.

SUMMARY: The United States Department of Agriculture (USDA) is soliciting comments and suggestions on objectives and opportunities leading to research goals and informed product goals to facilitate transformative breakthroughs to enable U.S. agriculture to meet the Department's goal of increasing agricultural production by 40 percent to meet the needs of the global population in 2050 while cutting the environmental footprint of U.S. agriculture in half. This effort is part of USDA's Agricultural Innovation Agenda, the Department's commitment to the continued success of American farmers, ranchers, producers, and foresters in the face of future challenges.

DATES: Written comments must be received by August 1, 2020, to be assured of consideration. Comments received after that date will be considered to the extent practicable.

ADDRESSES: You may submit comments using the Federal eRulemaking Portal. Go to http://www.regulations.gov/#!docketDetail;D=USDA-2020-0003 and click the “Comment Now” button.

FOR FURTHER INFORMATION CONTACT: John Dyer, 202-720-1542, john.dyer@usda.gov.

SUPPLEMENTARY INFORMATION: As part of the Agricultural Innovation Agenda, the United States Department of Agriculture (USDA) seeks written stakeholder input on objectives and opportunities leading to research goals and informed product goals to facilitate transformative breakthroughs to enable U.S. agriculture to meet the Department's goal to increase agricultural production by 40 percent to meet the needs of the global population in 2050 while cutting the environmental footprint of U.S. agriculture in half.

The Department, using the 2019 National Academies of Sciences, Engineering, and Medicine report Science Breakthroughs to Advance Food and Agricultural Research by 2030, identified four innovation clusters that present broad potential for transformative innovation. Innovation clusters represent a grouping of innovations to focus agricultural research and inform product development. These clusters are:

• Genome Design—Utilization of genomics and precision breeding to explore, control, and improve traits of agriculturally important organisms.

• Digital/Automation—Deployment of precise, accurate and field-based sensors to collect information in real time in order to visualize changing conditions and respond automatically with interventions that reduce risk of losses and maximize productivity.

• Prescriptive Intervention—Application and integration of data sciences, software tools, and systems models to enable advanced analytics for managing the food and agricultural system.

• Systems Based Farm Management—Leverage a systems approach in order to understand the nature of interactions among different elements of the food and agricultural system to increase overall efficiency, resilience, and sustainability of farm enterprises.

Stakeholders are asked to respond to the following questions:

1. What agricultural commodity, group of commodities, or customer base does your response pertain to or would benefit?

2. What are the biggest challenges and opportunities to increase productivity and/or decrease environmental footprint that should be addressed in the next 10- to 30-year timeframe?

3. For each opportunity identified, answer the following supplemental questions:

a. What might be the outcome for the innovation solution (e.g., the physical or tangible product(s) or novel approach) from each of the four innovation clusters?

b. What are the specific research gaps, regulatory barriers, or other hurdles that need to be addressed to enable eventual application, or further application, of the innovation solution proposed from each of the four innovation clusters?

Stakeholder input will inform the Department as it works to develop a comprehensive strategy to guide public-sector research objectives and inform private-sector product development in order to maximize the U.S. Agriculture sector's continued ability to meet future demands.

Done in Washington, DC, this 26th day of March.
Stephen Censky,
Deputy Secretary, United States Department of Agriculture.

[FR Doc. 2020-06825 Filed 3-31-20; 8:45 am]

BILLING CODE 3410-03-P